DEPARTMENT OF JUSTICE

Notice of Lodging of Proposed Consent Decree Under the Clean Water Act

On September 13, 2016, a proposed Consent Decree in United States of America v. Total Petroleum Puerto Rico Corporation, Civil Action No.3:16-cv-02641, was filed with the United States District Court for Puerto Rico.

The proposed Consent Decree between the parties resolves the United States' claims that Total Petroleum violated the Clean Water Act and permits it holds under the Act at Total Petroleum's Bulk Fuels Terminal in Guaynabo, Puerto Rico. The proposed Consent Decree requires Total Petroleum to undertake work at its facility to comply with the Act and the permits it holds, to pay a $345,000 civil penalty, and to undertake a project to improve aquatic habitat in the nearby San Juan Harbor.

The publication of this notice opens a period for public comment on the proposed Consent Decree. Comments should be addressed to the Assistant Attorney General, Environment and Natural Resources Division, and should refer to: United States of America v. Total Petroleum Puerto Rico Corporation, Civil Action No.3:16-cv-02641, D.J. Ref. 90-5-1-1-10983. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $18.25 (25 cents per page reproduction cost) payable to the United States Treasury.

Robert E. Maher Jr.,
Assistant Section Chief, Environmental Enforcement Section, Environment and Natural Resources Division.

[FR Doc. 2016-22466 Filed 9-16-16; 8:45 am]

BILLING CODE 4410-15-P